DEPARTMENT OF THE INTERIOR

National Park Service

Notice of Inventory Completion: U.S. Department of the Interior, Bureau of Indian Affairs, Washington, DC, and Northwest Museum of Arts & Culture, Spokane, WA

AGENCY: National Park Service, Interior.

ACTION: Notice.

Notice is here given in accordance with the Native American Graves Protection and Repatriation Act (NAGPRA), 25 U.S.C. 3003, of the completion of an inventory of human remains in the control of the U.S. Department of the Interior, Bureau of Indian Affairs, Washington, DC, and in the possession of the Northwest Museum of Arts & Culture, Spokane, WA. The human remains were removed from the Spokane Indian Reservation which is predominantly situated in Stevens County, WA, with an exception of a small plot of land and a section of the Spokane River that are located in Lincoln County, WA.

This notice is published as part of the National Park Service's administrative responsibilities under NAGPRA, 25 U.S.C. 3003 (d)(3). The determinations in this notice are the sole responsibility of the museum, institution, or Federal agency that has control of the Native American human remains. The National Park Service is not responsible for the determinations in this notice.

A detailed assessment of the human remains was made by the Northwest Museum of Arts & Culture professional staff, on behalf of the U.S. Department of the Interior, Bureau of Indian Affairs, in consultation with representatives of the Spokane Tribe of the Spokane Reservation, Washington.

Around the early 1900s, human remains representing a minimum of two individuals were removed from an unknown location on the Spokane Indian Reservation in Stevens County, WA, probably by Mr. Daniel Dwight, a well-known collector of Spokane Indian relics. The human remains were in Mr. Dwight's possession until his passing in 1982 when many of the Indian artifacts he amassed over the years were donated to the Museum of Native American Culture, Spokane, WA (Accn. Number 1982.37). The Dwight Collection was stored by the Museum of Native American Culture until the museum's closure in 1991. Subsequently, the majority of the Museum of Native American Culture's collections was taken over by the Cheney Cowles Museum, later named the Northwest Museum of Arts & Culture. No known individuals were identified. No associated funerary objects are present.

Based on museum records, as well as consultation with the late Robert Sherwood, a cultural representative of the Spokane Tribe, the human remains were most likely removed during the early 1900s from the Spokane Reservation. The human remains include two human skulls and mandibles. Though un-numbered, these human remains are reasonable believed to be a part of a group of bones listed in the Daniel Dwight donation of 1982. The collection records include crania metatarsal, and vertebra bone fragments, and are consistent with the inventory of human remains listed above.

Based on provenience, museum records, consultation, and the donor's collection history, the officials of the Bureau of Indian Affairs and Northwest Museum of Arts & Cultural reasonably believe that the human remains are culturally affiliated with the Spokane Tribe of the Spokane Reservation, Washington.

Officials of the Bureau of Indian Affairs and Northwest Museum of Arts & Culture have determined that, pursuant to 25 U.S.C. 3001 (9-10), the human remains described above represent the physical remains of two individuals of Native American ancestry. Officials of the Bureau of Indian Affairs and Northwest Museum of Arts & Culture also have determined that, pursuant to 25 U.S.C. 3001 (2), there is a relationship of shared group identity that can be reasonably traced between the Native American human remains and the Spokane Tribe of the Spokane Reservation, Washington.

Representatives of any other Indian tribe that believes itself to be culturally affiliated with the human remains should contact Mr. Michael Holloman, Museum of Arts & Culture, 2316 West First Avenue, Spokane, WA 99201-5906, telephone (509) 363-5337, before November 28, 2008 Repatriation of the human remains to the Spokane Tribe of the Spokane Reservation, Washington may proceed after that date if no additional claimants come forward.

The Northwest Museum of Arts & Culture is responsible for notifying the Spokane Tribe of the Spokane Reservation, Washington that this notice has been published.

Dated: October 1, 2008
Sherry Hutt,
Manager, National NAGPRA Program.

[FR Doc. E8-25765 Filed 10-28-08; 8:45 am]

BILLING CODE 4312-50-S